DEPARTMENT OF ENERGY

Federal Energy Regulatory Commission

[Docket No. ER01-1232-001, et al.]

Allegheny Power, et al.; Electric Rate and Corporate Regulation Filings

March 14, 2001.

Take notice that the following filings have been made with the Commission:

1. Allegheny Power

[Docket No. ER01-1232-001]

Take notice that on March 6, 2001, Allegheny Power tendered for filing a revised copy of the Interim Coordination Agreement which is the subject of this docket in order reflect a revised rate schedule reference. The pages of the revised agreement reflect APS Operating Companies Rate Schedule FERC No. 4.

Comment date: March 27, 2001, in accordance with Standard Paragraph E at the end of this notice.

2. Allegheny Energy Service Corporation, on Behalf of Monongahela Power Company, The Potomac Edison Company, and West Penn Power Company (Allegheny Power)

[Docket No. ER01-1461-000]

Take notice that on March 8, 2001, Allegheny Energy Service Corporation on behalf of Monongahela Power Company, The Potomac Edison Company, and West Penn Power Company (Allegheny Power), tendered for filing an Interconnection Agreement (Agreement) with Mill Run Windpower, LLC as Service Agreement No. 345 under Allegheny Power's Open Access Transmission Tariff.

The proposed effective date under the Agreement is no later than November 15, 2001, or a date ordered by the Commission.

Copies of the filing have been provided to the Public Utilities Commission of Ohio, the Pennsylvania Public Utility Commission, the Maryland Public Service Commission, the Virginia State Corporation Commission, and the West Virginia Public Service Commission.

Comment date: March 29, 2001, in accordance with Standard Paragraph E at the end of this notice.

3. Public Service Company of New Mexico

[Docket No. ER01-1462-000]

Take notice that on March 8, 2001, Public Service Company of New Mexico (PNM), tendered for filing two executed service agreements, dated February 28, 2001, with the Incorporated County of Los Alamos (County), under the terms of PNM's Open Access Transmission Service Tariff (OATT). One agreement is for firm point-to-point transmission service, and supplements two existing transmission service agreements between PNM and County for 37 MW (dated April 21, 1999), and for 10 MW (dated May 23, 2000), respectively. Under the new service agreement PNM provides County with additional firm point-to-point transmission service (for County's hydro-generation units) from the Hernandez Substation 115kV Bus (point of receipt) to the PNM Norton 115kV Switching Station, the point of interconnection with County. The other agreement is an Amendment (Revised and Restated Amendment Number One to the Control Area Service Agreement, dated February 28, 2001) to an existing Control Area Service Agreement and its Supplement (Supplement No. 1), which (all three) together comprise “First Revised Service Agreement No. 116” under PNM's OATT, and include all of the necessary information to incorporate the firm point-to-point transmission service (from all three firm point-to-point transmission service agreements) into all relevant control area service load and resource descriptions and ancillary services calculations. PNM's filing is available for public inspection at PNM's offices in Albuquerque, New Mexico.

Copies of the filing have been sent to County and to the New Mexico Public Regulation Commission.

Comment date: March 29, 2001, in accordance with Standard Paragraph E at the end of this notice.

4. California Independent System Operator Corporation

[Docket No. ER01-1463-000]

Take notice that on March 8, 2001, the California Independent System Operator Corporation, tendered for filing a Participating Generator Agreement between the ISO and Dinuba Energy, Inc., for acceptance by the Commission.

The ISO states that this filing has been served on Dinuba Energy, Inc., and the California Public Utilities Commission.

The ISO is requesting waiver of the 60-day notice requirement to allow the Participating Generator Agreement to be made effective March 5, 2001.

Comment date: March 29, 2001, in accordance with Standard Paragraph E at the end of this notice.

5. California Independent System Operator Corporation

[Docket No. ER01-1464-000]

Take notice that on March 8, 2001, the California Independent System Operator Corporation, tendered for filing a Meter Service Agreement for ISO Metered Entities between the ISO and Dinuba Energy, Inc., for acceptance by the Commission.

The ISO states that this filing has been served on Dinuba Energy, Inc., and the California Public Utilities Commission.

The ISO is requesting waiver of the 60-day notice requirement to allow the Meter Service Agreement for ISO Metered Entities to be made effective March 5, 2001.

Comment date: March 29, 2001, in accordance with Standard Paragraph E at the end of this notice.

6. California Independent System Operator Corporation

[Docket No. ER01-1465-000]

Take notice that on March 8, 2001, the California Independent System Operator Corporation (ISO), tendered for filing a Meter Service Agreement for Scheduling Coordinators between the ISO and Pacific Gas and Electric Company for acceptance by the Commission.

The ISO states that this filing has been served on Pacific Gas and Electric Company and the California Public Utilities Commission.

The ISO is requesting waiver of the 60-day notice requirement to allow the Meter Service Agreement to be made effective as of February 15, 2001.

Comment date: March 29, 2001, in accordance with Standard Paragraph E at the end of this notice.

7. California Independent System Operator Corporation

[Docket No. ER01-1466-000]

Take notice that on March 8, 2001, the California Independent System Operator Corporation, tendered for filing a Meter Service Agreement for ISO Metered Entities between the ISO and Sierra Power Corporation for acceptance by the Commission.

The ISO states that this filing has been served on Sierra Power Corporation and the California Public Utilities Commission.

The ISO is requesting waiver of the 60-day notice requirement to allow the Meter Service Agreement for ISO Metered Entities to be made effective March 5, 2001.

Comment date: March 29, 2001, in accordance with Standard Paragraph E at the end of this notice.

8. California Independent System Operator Corporation

[Docket No. ER01-1467-000]

Take notice that on March 8, 2001, the California Independent System Operator Corporation, tendered for filing a Participating Generator Agreement between the ISO and Sierra Power Corporation for acceptance by the Commission.

The ISO states that this filing has been served on Sierra Power Corporation and the California Public Utilities Commission.

The ISO is requesting waiver of the 60-day notice requirement to allow the Participating Generator Agreement to be made effective March 5, 2001.

Comment date: March 29, 2001, in accordance with Standard Paragraph E at the end of this notice.

9. Great Bay Power Corporation

[Docket No. ER01-1468-000]

Take notice that on March 8, 2001, Great Bay Power Corporation (Great Bay), tendered for filing service agreements between Chicopee Municipal Light Plant and Great Bay and between South Hadley Electric Light Department and Great Bay for service under Great Bay's revised Market-Based Rate Power Sales Tariff (Tariff). This Tariff was accepted for filing by the Commission on May 31, 2000, in Docket No. ER00-2211-000.

The service agreements are proposed to be effective March 1, 2001.

Comment date: March 29, 2001, in accordance with Standard Paragraph E at the end of this notice.

10. Southwest Power Pool, Inc.

[Docket No. ER01-1469-000]

Take notice that on March 8, 2001, Southwest Power Pool (SPP), tendered for filing notice that effective February 15, 2001, Service Agreement No. 17, effective date June 1, 1998, and filed with the Federal Energy Regulatory Commission in Docket No. ER98-3160 by Southwest Power Pool, Inc., is to be canceled.

Notice of the proposed cancellation has been served upon El Paso Merchant Energy as successor in interest to Coastal Merchant Energy, L.P., formerly Engage Energy US, L.P., the transmission customer under the agreement.

Comment date: March 29, 2001, in accordance with Standard Paragraph E at the end of this notice.

11. Puget Sound Energy, Inc.

[Docket No. ER01-1470-000]

Take notice that on March 8, 2001, Puget Sound Energy, Inc. (Puget), tendered for filing the 2000-2001 Operating Procedures an amendment to Puget's FERC Rate Schedule No. 65, under the Pacific Northwest Coordination Agreement (PNCA). Puget states that the 2000-2001 Operating Procedures relate to service under the PNCA.

A copy of the filing was served upon the parties to the PNCA.

Comment date: March 29, 2001, in accordance with Standard Paragraph E at the end of this notice.

12. PacifiCorp

[Docket No. ER01-1471-000]

Take notice that on March 8, 2001, PacifiCorp, tendered for filing in accordance with 18 CFR 35 of the Commission's Rules and Regulations, Notice of Cancellation of a power sales agreement between Pacific Northwest Generating Cooperative and PacifiCorp.

Copies of this filing were supplied to the Washington Utilities and Transportation Commission and the Public Utility Commission of Oregon.

Comment date: March 29, 2001, in accordance with Standard Paragraph E at the end of this notice.

13. Arizona Public Service Company

[Docket No. ER01-1474-000]

Take notice that on March 9, 2001, Arizona Public Service Company (APS), tendered for filing Umbrella Service Agreements to provide Short-Term Firm and Non-Firm Point-to-Point Transmission Service to Calpine Energy Services, L.P., and Pinnacle West Capital Corporation—Marketing and Trading under APS' Open Access Transmission Tariff.

A copy of this filing has been served on Calpine Energy Services, L.P., Pinnacle West Capital Corporation—Marketing and Trading, and the Arizona Corporation Commission.

Comment date: March 30, 2001, in accordance with Standard Paragraph E at the end of this notice.

14. Peco Energy Company

[Docket No. ER01-1475-000]

Take notice that on March 9, 2001, PECO Energy Company (PECO), tendered for filing under Section 205 of the Federal Power Act, 16 U.S.C. S 792 et seq., a Service Agreement dated March 7, 2001 with Alliant Energy Corporate Services, Inc. (AECS) under PECO's FERC Electric Tariff Original Volume No. 1 (Tariff).

PECO requests an effective date of March 8, 2001 for the Agreement.

PECO states that copies of this filing have been supplied to Alliant Energy Corporate Services, Inc., and to the Pennsylvania Public Utility Commission.

Comment date: March 30, 2001, in accordance with Standard Paragraph E at the end of this notice.

15. El Paso Electric Company

[Docket No. ER01-1476-000]

Take notice that on March 9, 2001, El Paso Electric Company (EPE), tendered for filing Service Agreements for Firm Point-to-Point Transmission Service and for Non-Firm Point-to-Point Transmission Service to be provided pursuant to EPE's Open Access Transmission Tariff to each of the following transmission service customers: Tri-State Generation and Transmission Association, Inc., Transmission Division; Tri-State Generation and Transmission Association, Inc., Power Management/Generation Division; The Legacy Energy Group, LLC, and El Paso Merchant Energy, LP.

EPE has proposed to make each of these Service Agreements effective on February 8, 2001.

Comment date: March 30, 2001, in accordance with Standard Paragraph E at the end of this notice.

16. Cinergy Services, Inc.

[Docket No. ER01-1477-000]

Take notice that on March 9, 2001, Cinergy Services, Inc. (Cinergy), tendered for filing the following: (1) A Notice of Cancellation of FirstEnergy Corp.; (2) a Notice of Cancellation of The Toledo Edison Company; and (3) a Notice of Cancellation of The Cleveland Illuminating Company.

Cinergy respectfully requests waiver of any applicable regulation to the extent necessary to make the tariff changes effective as of the date of each of the listed name changes.

A copy of the filing was served upon the affected parties.

Comment date: March 30, 2001, in accordance with Standard Paragraph E at the end of this notice.

17. Green Mountain Power Corporation

[Docket No. ER01-1478-000]

Take notice that on March 9, 2001, Green Mountain Power Corporation (GMP), tendered for filing a Service Agreement for Firm Point-to-Point Transmission Service and a Service Agreement for Non-Firm Point-to-Point Transmission Service to be provided to Hydro Quebec pursuant to GMP's Open Access Transmission Tariff.

GMP has proposed to make each of these Service Agreements effective on March 1, 2001.

Comment date: March 30, 2001, in accordance with Standard Paragraph E at the end of this notice.

18. Northwest Regional Power, LLC

[Docket No. ER01-1479-000]

Take notice that on March 9, 2001, Northwest Regional Power, LLC tendered for filing with the Commission an application for authority to sell electric energy and capacity at market-based rates.

Northwest Regional Power requests that the Commission permit its Market-Based Rate Tariff to become effective one day from the date of filing.

Comment date: March 30, 2001, in accordance with Standard Paragraph E at the end of this notice.

19. WFEC GENCO, L.L.C.

[Docket No. ER01-1480-000]

Take notice that on March 9, 2001, WFEC GENCO, L.L.C., tendered for filing an Energy Conversion Agreement with Western Farmers Electric Cooperative.

Comment date: March 30, 2001, in accordance with Standard Paragraph E at the end of this notice.

20. WFEC GENCO, L.L.C.

[Docket No. ER01-1481-000]

Take notice that on March 9, 2001, WFEC GENCO, L.L.C., tendered for filing an Amended and Restated Energy Conversion Agreement with Coral Power, L.L.C.

Comment date: March 30, 2001, in accordance with Standard Paragraph E at the end of this notice.

21. ISO New England Inc.

[Docket No. ER01-1482-000]

Take notice that on March 9, 2001, ISO New England Inc. (the ISO), tendered for filing amendments to the Special Interim Market Rule originally filed with the Commission under Section 205 of the Federal Power Act.

Copies of said filing have been served upon the Secretary of the NPC, the Participants in the New England Power Pool, non-Participant transmission customers and upon the New England State Governors and Regulatory Commissions.

Comment date: March 30, 2001, in accordance with Standard Paragraph E at the end of this notice.

22. Union Electric Company

[Docket No. ER01-1483-000]

Take notice that on March 9, 2001, Union Electric Company (UE), tendered for filing notice that effective as of August 1, 2000 the Long-Term Firm Point-to-Point Transmission Service Agreement dated August 7, 1997 (Docket No. ER97-4138-000) filed with the Federal Energy Regulatory Commission by Union Electric Company is to be canceled.

Notice of the proposed cancellation has been served upon Sonat Power Marketing L.P., n/k/a El Paso Merchant Energy, L.P.

Comment date: March 30, 2001, in accordance with Standard Paragraph E at the end of this notice.

23. Central Illinois Public Service Company

[Docket No. ER01-1484-000]

Take notice that on March 9, 2001, Central Illinois Public Service Company (CIPS), tendered for filing notice that effective as of August 1, 2000 the Non-Firm Point-to-Point Transmission Service Agreement dated August 27, 1996 (Docket No. ER96-3083-000) filed with the Federal Energy Regulatory Commission by Central Illinois Public Service Company is to be canceled.

Notice of the proposed cancellation has been served upon El Paso Energy Marketing Company.

Comment date: March 30, 2001, in accordance with Standard Paragraph E at the end of this notice.

24. Union Electric Company

[Docket No. ER01-1485-000]

Take notice that on March 9, 2001, Union Electric Company (UE), tendered for filing notice that effective as of August 1, 2000 the Non-Firm Point-to-Point Transmission Service Agreement dated February 11, 1997 (Docket No. ER97-1710-000) filed with the Federal Energy Regulatory Commission by Union Electric Company is to be canceled.

Notice of the proposed cancellation has been served upon Sonat Power Marketing L.P., n/k/a El Paso Merchant Energy, L.P.

Comment date: March 30, 2001, in accordance with Standard Paragraph E at the end of this notice.

25. Ameren Services Company

[Docket No. ER01-1486-000]

Take notice that on March 9, 2001, Ameren Services Company, (ASC), tendered for filing notice that effective as of February 1, 2000 the Firm Point-to-Point Transmission Service Agreement dated January 5, 1999 (Docket No. ER99-1651-000) filed with the Federal Energy Regulatory Commission by Ameren Services Company is to be canceled.

Notice of the proposed cancellation has been served upon Allegheny Power Service Corporation.

Comment date: March 30, 2001, in accordance with Standard Paragraph E at the end of this notice.

26. Ameren Services Company

[Docket No. ER01-1487-000]

Take notice that on March 9, 2001, Ameren Services Company (ASC), tendered for filing notice that effective as of February 1, 2000 the Non-Firm Point-to-Point Transmission Service Agreement dated January 5, 1999 (Docket No. ER99-1652-000) filed with the Federal Energy Regulatory Commission by Ameren Services Company is to be canceled.

Notice of the proposed cancellation has been served upon Allegheny Power Service Corporation.

Comment date: March 30, 2001, in accordance with Standard Paragraph E at the end of this notice.

27. Central Illinois Public Service Company

[Docket No. ER01-1488-000]

Take notice that on March 9, 2001, Central Illinois Public Service Company (CIPS), tendered for filing notice that effective as of February 25, 2000 the Non-Firm Point-to-Point Transmission Service Agreement dated January 1, 1997 (Docket No. ER97-1333-000) filed with the Federal Energy Regulatory Commission by Central Illinois Public Service Company is to be canceled.

Notice of the proposed cancellation has been served upon Sonat Power Marketing L.P., n/k/a El Paso Merchant Energy, L.P.

Comment date: March 30, 2001, in accordance with Standard Paragraph E at the end of this notice.

28. Strategic Energy, L.L.C.

[Docket No. EC01-79-000]

Take notice that on March 8, 2001, Strategic Energy, L.L.C. (Strategic Energy), filed with the Federal Energy Regulatory Commission (the Commission) an application pursuant to section 203 of the Federal Power Act and Part 33 of the Commission's Regulations for authorization of the transfer of indirect ownership interests in the Applicant. The Applicant states that the proposed transaction is between two current indirect owners of the Applicant that raises no issues under the Commission's Merger Guidelines.

Comment date: March 29, 2001, in accordance with Standard Paragraph E at the end of this notice.

29. Caledonia Generating, LLC

[Docket No. EG01-137-000]

Take notice that on March 2, 2001, Caledonia Generating, LLC filed with the Federal Energy Regulatory Commission an application for determination of exempt wholesale generator status pursuant to section 32(a)(1) of the Public Utility Holding Company Act of 1935. The applicant is a limited liability company organized under the laws of the State of Delaware that is engaged directly and exclusively in developing, owning, and operating a gas-fired 813 MW (summer rated) combined-cycle power plant in Lowndes County, Mississippi, near Caledonia, Mississippi, which will be an eligible facility.

Comment date: April 4, 2001, in accordance with Standard Paragraph E at the end of this notice. The Commission will limit its consideration of comments to those that concern the adequacy or accuracy of the application.

30. FPL Energy Pecos Wind I, LP

[Docket No. EG01-145-000]

Take notice that on March 7, 2001, FPL Energy Pecos Wind I, LP (the Applicant), with its principal office at 700 Universe Boulevard, Juno Beach, Florida 33408, filed with the Commission an application for determination of exempt wholesale generator status pursuant to Part 365 of the Commission's regulations.

Applicant states that it is a Delaware limited liability company engaged directly and exclusively in the business of developing and operating an approximately 80 MW wind-powered generating facility located in the County of Pecos, Texas. Electric energy produced by the facility will be sold at wholesale or at retail exclusively to foreign consumers.

Comment date: April 4, 2001, in accordance with Standard Paragraph E at the end of this notice. The Commission will limit its consideration of comments to those that concern the adequacy or accuracy of the application.

31. Northwest Regional Power, LLC

[Docket No. EG01-146-000]

Take notice that on March 9, 2001, Northwest Regional Power, LLC (Applicant), having its principal place of business at 9 N. Fairgrounds Road, Goldendale, WA, 98620, filed with the Federal Energy Regulatory Commission (Commission) an application for determination of exempt wholesale generator status pursuant to Part 365 of the Commission's regulations.

The Applicant is a Washington State limited liability company formed for the purpose of operating a number of portable generating units at twelve separate sites located in Klickitat, Snohomish, Douglas, Okanogan and King Counties, Washington, and Wasco County, Oregon.

Comment date: April 4, 2001, in accordance with Standard Paragraph E at the end of this notice. The commission will limit its consideration of comments to those that concern the adequacy or accuracy of the application.

32. Lumberton Power, LLC

[Docket No. EG01-147-000]

Take notice that on March 12, 2001, Lumberton Power, LLC (Lumberton), a limited liability company with its principal place of business at 1400 Smith Street, Houston, Texas 77002, filed with the Federal Energy Regulatory Commission (Commission) an application for determination of exempt wholesale generator status pursuant to Part 365 of the Commission's regulations.

Lumberton states that it will be engaged directly and exclusively in the business of owning and operating a 35 MW generation facility located in Lumberton, North Carolina. Lumberton will sell its capacity exclusively at wholesale. A copy of the filing was served upon the Securities and Exchange Commission and the North Carolina Utilities Commission.

Comment date: April 4, 2001, in accordance with Standard Paragraph E at the end of this notice. The Commission will limit its consideration of comments to those that concern the adequacy or accuracy of the application.

33. Elizabethtown Power, LLC

[Docket No. EG01-148-000]

Take notice that on March 12, 2001, Elizabethtown Power, LLC (Elizabethtown), a limited liability company with its principal place of business at 1400 Smith Street, Houston, Texas 77002, filed with the Federal Energy Regulatory Commission (Commission) an application for determination of exempt wholesale generator status pursuant to Part 365 of the Commission's regulations.

Elizabethtown states that it will be engaged directly and exclusively in the business of owning and operating a 35 MW generation facility located in Elizabethtown, North Carolina. Elizabethtown will sell its capacity exclusively at wholesale. A copy of the filing was served upon the Securities and Exchange Commission and the North Carolina Utilities Commission.

Comment date: April 4, 2001, in accordance with Standard Paragraph E at the end of this notice. The commission will limit its consideration of comments to those that concern the adequacy or accuracy of the application.

34. AES Mohave, LLC

[Docket No. EG01-149-000]

Take notice that on March 12, 2001, AES Mohave, LLC (AES Mohave) filed with the Federal Energy Regulatory Commission an application for determination of exempt wholesale generator status pursuant to Part 365 of the Commission's regulations. AES Mohave intends to purchase certain undivided interests in the Mohave project, a 1,580 megawatt coal-fired power plant, located at the southern tip of Clark County, Nevada.

Comment date: April 4, 2001, in accordance with Standard Paragraph E at the end of this notice. The Commission will limit its consideration of comments to those that concern the adequacy or accuracy of the application.

35. Duke Energy Audrain, LLC

[Docket No. EG01-150-000]

Take notice that on March 13, 2001, Duke Energy Audrain, LLC (Duke Audrain) filed an application with the Federal Energy Regulatory Commission (the Commission) for determination of exempt wholesale generator status pursuant to Section 32 of the Public Utility Holding Company Act of 1935, as amended, and Part 365 of the Commission's regulations.

Duke Audrain is a Delaware limited liability company that will be engaged directly and exclusively in the business of owning or operating all or part of one or more eligible facilities to be located in Audrain County, Missouri. The eligible facilities will consist of an approximately 640 MW natural gas-fired, simple cycle electric generation plant and related interconnection facilities. The output of the eligible facilities will be sold at wholesale.

Comment date: April 4, 2001, in accordance with Standard Paragraph E at the end of this notice. The Commission will limit its consideration of comments to those that concern the adequacy or accuracy of the application.

36. Arizona Public Service Company

[Docket No. ER01-770-001]

Take notice that on March 9, 2001, Arizona Public Service Company (APS) tendered for filing with the Federal Energy Regulatory Commission (Commission), its Compliance filing pursuant to the Commission's February 28, 2001 Order in Docket No. ER01-770-000.

A copy of this filing has been served on all parties on the official service list.

Comment date: March 30, 2001, in accordance with Standard Paragraph E at the end of this notice.

37. Wisconsin Electric Power Company

[Docket No. ER01-847-001]

Take notice that on March 9, 2001, Wisconsin Electric Power Company (Wisconsin Electric) tendered for filing a Revised Power Sales Agreement (the Agreement) between Wisconsin Electric and Wisconsin Public Power, Inc. (WPPI) containing revisions to Exhibit C of the Agreement. The revisions reflect a technical correction to the section numbering in Exhibit C, and thus allow for proper cross-referencing between the Agreement and Exhibit C. The filed RPSA also contains designations and pagination in compliance with Order No. 614, FERC Stats. & Regs. ¶ 31,096 (2000).

Comment date: March 30, 2001, in accordance with Standard Paragraph E at the end of this notice.

38. Arizona Public Service Company

[Docket No. ER01-917-001]

Take notice that on March 9, 2001, Arizona Public Service Company (APS) tendered for filing with the Federal Energy Regulatory Commission (Commission) its Compliance filing pursuant to the Commission's February 28, 2001 order in Docket No. ER01-917-000.

A copy of this filing has been served on all parties on the official service list.

Comment date: March 30, 2001, in accordance with Standard Paragraph E at the end of this notice.

39. WPS Westwood Generation, LLC

[Docket No. ER01-1114-001]

Take notice that on March 9, 2001, WPS Westwood Generation, LLC (Westwood) tendered for filing an amendment in the above-captioned proceeding. The amendment refiles the interconnection agreement between Westwood and PPL Electric Utilities Corporation in Order No. 614 format.

Copies of the filing were served upon the list of recipients and the Pennsylvania Public Utility Commission.

Comment date: March 30, 2001, in accordance with Standard Paragraph E at the end of this notice.

40. Celerity Energy of New Mexico, LLC

[Docket No. ER01-1183-001]

Take notice that on March 9, 2001, Celerity Energy of New Mexico, LLC (Celerity) amended its petition for acceptance of Celerity's FERC Rate Schedule No. 1; the granting of certain blanket approvals, including the authority to sell electricity at market-based rates; and the waiver of certain Commission regulations and acceptance of a wholesale power sales agreement, Celerity's Service Agreement No. 1.

Celerity intends to engage in wholesale electric power and energy purchases and sales as a marketer. Celerity is 85 percent owned by Caterpillar Power Systems, Inc., which produces electric power generation equipment, and 15 percent owned by Celerity Energy, an Oregon LLC, which engages in the business of distributed generation products and services.

Comment date: March 30, 2001, in accordance with Standard Paragraph E at the end of this notice.

41. Allegheny Energy Supply Company, LLC

[Docket No. ER01-1317-000]

Take notice that on March 9, 2001, Allegheny Energy Supply Company, LLC (AE Supply) filed a request to withdraw Market Rate Tariff Service Agreement No. 110.

Copies of the filing have been provided to the Customer, to the Public Utilities Commission of Ohio, the Pennsylvania Public Utility Commission, the Maryland Public Service Commission, the Virginia State Corporation Commission, the West Virginia Public Service Commission, and all parties of record.

Comment date: March 30, 2001, in accordance with Standard Paragraph E at the end of this notice.

42. Maine Public Service Company

[Docket No. ER01-1472-000]

Take notice that on March 9, 2001, Maine Public Service Company (Maine Public) filed an executed Service Agreement for Network Integration Transmission Service under Maine Public's open access transmission tariff with Eastern Maine Electric Cooperative Inc.

Maine Public requests that the agreement become effective on March 1, 2001.

Comment date: March 30, 2001, in accordance with Standard Paragraph E at the end of this notice.

43. Allegheny Energy Service Corporation, on Behalf of Monongahela Power Company, The Potomac Edison Company, and West Penn Power Company (Allegheny Power)

[Docket No. ER01-1473-000]

Take notice that on March 9, 2001 Allegheny Energy Service Corporation on behalf of Monongahela Power Company, The Potomac Edison Company and West Penn Power Company (Allegheny Power), filed Service Agreement No. 346 to add AES NewEnergy, Inc. to Allegheny Power's Open Access Transmission Service Tariff.

The proposed effective date under the agreement is March 8, 2001.

Copies of the filing have been provided to the Public Utilities Commission of Ohio, the Pennsylvania Public Utility Commission, the Maryland Public Service Commission, the Virginia State Corporation Commission, and the West Virginia Public Service Commission.

Comment date: March 30, 2001, in accordance with Standard Paragraph E at the end of this notice.

44. UtiliCorp United Inc.

[Docket No. OA01-3-000]

Take notice that on December 21, 2000, UtiliCorp United Inc. (UtiliCorp) tendered for filing revised transmission standards of conduct to incorporate St. Joseph Light & Power as a UtiliCorp operating division.

Comment date: March 29, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-6870 Filed 3-19-01; 8:45 am]

BILLING CODE 6717-01-P